DEPARTMENT OF DEFENSE

Department of the Air Force

Proposed Collection; Comment Request

AGENCY: United States Air Force (USAF) Museum System; Department of Defense.

ACTION: Notice.

In compliance with section 3506(c)(2)(A) of the Paperwork Reduction Act of 1995, the United States Air Force Museum System announces the proposed public information collection and seeks public comment on the provisions thereof. Comments are invited on: (a) Whether the proposed collection of information is necessary for the proper performance of the functions of the agency, including whether the information shall have practical utility; (b) the accuracy of the agency's estimate of the burden of the proposed information collection; (c) ways to enhance the quality, utility and clarity of the information to be collected; and (d) ways to minimize the burden of the information collection on respondents, including through the use of automated collection techniques or other forms of information technology.

DATES: Considerations will be given to all comments received by June 10, 2003.

ADDRESSES: Written comments and recommendations on the proposed information collection should be sent to the United States Air Force Museum, 1100 Spaatz Street, Wright-Patterson AFB, OH 45433-7192, Attn: Ms. Bonnie Holtmann, Volunteer Services Administrator.

FOR FURTHER INFORMATION CONTACT: To request more information on this proposed information collection or to obtain a copy of the proposal and associated collection instruments, please write to the above address, or call the Volunteer Services Office at (937) 255-8099, extension 313.

Title, Associated Form, and OMB Number: United States Air Force Museum System Volunteer Application/Registration, Air Force Form (AF) 3569, September 1997, OMB Number 0701-0127.

Needs and Uses: The information collection requirement is necessary to provide: (a) the general public an instrument to interface with the United States Air Force Museum System Volunteer Program; (b) the United States Air Force Museum System the means with which to select respondents pursuant to the United States Air Force Museum System Volunteer Program. The primary uses of the information collection include the evaluation and placement of respondents within the United States Air Force Museum System Volunteer Program.

Affected Public: General population civilian, active and retired military individuals.

Annual Burden Hours: 68.

Number of Respondents: 271 per annum.

Responses per Respondent: 1.

Average Burden per Response: 15 minutes.

Frequency: One time only.

SUPPLEMENTARY INFORMATION:

Summary of Information Collection

Respondents are individuals expressing an interest in participating in the United States Air Force Museum System Volunteer Program authorized by 10 U.S.C. 81, section 1588 and regulated by Air Force Instruction 84-103. Air Force Instruction 84-103, paragraph 3.5.3 requires the use of Air Force Form 3569. Air Force Form 3569 provides the most expedient means to secure basic personal information (i.e., name, telephone number, address and experience pursuant to the United States Air Force Museum System Volunteer Program requirements) and is used solely by the United States Air Force Museum System Volunteer Program to recruit, evaluate and make work assignment decisions. Air Force Form 3569 is the only instrument that exists which facilitates this purpose. The United States Air Force Museum Volunteer Program is an integral function in the operation of the United States Air Force Museum System. Volunteers provide valuable time, incalculable talent, skill and knowledge of United States Air Force aviation history so that all visitors to the many United States Air Force Museum System facilities throughout the United States may enjoy the important contribution of United States Air Force historical heritage.

The completed forms are processed through medical reviewers representing their respective services to determine a medical qualification status. Associated forms may or may not be required depending on the medical information contained in the medical examination. If the medical examination and associated forms, if necessary, are not accomplished, individuals reviewing the medical examination cannot be readily assured of the medical qualifications of the individual. Without this process the individual applying to any of these programs could not have a medical qualification determination. It is essential that individual's have a medical qualification determination to ensure compliance with the physical standards established for each respective military service program.

Pamela Fitzgerald,
Air Force Federal Register Liaison Officer.

[FR Doc. 03-8873 Filed 4-10-03; 8:45 am]

BILLING CODE 5001-05-P